DEPARTMENT OF TRANSPORTATION

Federal Aviation Administration

14 CFR Part 39

[Docket No. FAA-2020-0795; Product Identifier 2019-SW-069-AD; Amendment 39-21247; AD 2020-19-05]

RIN 2120-AA64

Airworthiness Directives; Bell Helicopter Textron Canada Limited Helicopters

AGENCY: Federal Aviation Administration (FAA), Department of Transportation (DOT).

ACTION: Final rule; request for comments.

SUMMARY: The FAA is adopting a new airworthiness directive (AD) for certain Bell Helicopter Textron Canada Limited (Bell) Model 505 helicopters. This AD requires inspecting each swashplate assembly bearing (bearing), and depending on the inspection results, removing the bearing from service. This AD was prompted by a report of a bearing that migrated out of the swashplate inner ring. The actions of this AD are intended to address an unsafe condition on these products.

DATES: This AD becomes effective October 8, 2020.

The Director of the Federal Register approved the incorporation by reference of a certain document listed in this AD as of October 8, 2020. The FAA must receive comments on this AD by November 9, 2020.

ADDRESSES: You may send comments by any of the following methods:

• Federal eRulemaking Docket: Go to https://www.regulations.gov. Follow the online instructions for sending your comments electronically.

• Fax: 202-493-2251.

• Mail: Send comments to the U.S. Department of Transportation, Docket Operations, M-30, West Building Ground Floor, Room W12-140, 1200 New Jersey Avenue SE, Washington, DC 20590-0001.

• Hand Delivery: Deliver to the “Mail” address between 9 a.m. and 5 p.m., Monday through Friday, except Federal holidays.

Examining the AD Docket

You may examine the AD docket on the internet at https://www.regulations.gov by searching for and locating Docket No. FAA-2020-0795; or in person at Docket Operations between 9 a.m. and 5 p.m., Monday through Friday, except Federal holidays. The AD docket contains this AD, the Transport Canada AD, any service information that is incorporated by reference, any comments received, and other information. The street address for Docket Operations is listed above. Comments will be available in the AD docket shortly after receipt.

For service information identified in this final rule, contact Bell Helicopter Textron Canada Limited, 12,800 Rue de l'Avenir, Mirabel, Quebec J7J1R4; telephone 450-437-2862 or 800-363-8023; fax 450-433-0272; or at https://www.bellcustomer.com.

You may view the referenced service information at the FAA, Office of the Regional Counsel, Southwest Region, 10101 Hillwood Pkwy., Room 6N-321, Fort Worth, TX 76177. It is also available on the internet at https://www.regulations.gov by searching for and locating Docket No. FAA-2020-0795.

FOR FURTHER INFORMATION CONTACT: Daniel E. Moore, Aviation Safety Engineer, Regulations & Policy Section, Rotorcraft Standards Branch, FAA, 10101 Hillwood Pkwy., Fort Worth, TX 76177; telephone 817-222-5110; email daniel.e.moore@faa.gov.

SUPPLEMENTARY INFORMATION:

Comments Invited

This AD is a final rule that involves requirements affecting flight safety, and the FAA did not provide you with notice and an opportunity to provide your comments prior to it becoming effective. However, the FAA invites you to participate in this rulemaking by submitting written comments, data, or views. The most helpful comments reference a specific portion of the AD, explain the reason for any recommended change, and include supporting data. To ensure the docket does not contain duplicate comments, commenters should send only one copy of written comments, or if comments are filed electronically, commenters should submit them only one time.

Except for Confidential Business Information (CBI) as described in the following paragraph, and other information as described in 14 CFR 11.35, the FAA will file in the docket all comments received, as well as a report summarizing each substantive public contact with FAA personnel concerning this rulemaking during the comment period. The FAA will consider all the comments received and may conduct additional rulemaking based on those comments.

Confidential Business Information

Confidential Business Information (CBI) is commercial or financial information that is both customarily and actually treated as private by its owner. Under the Freedom of Information Act (FOIA) (5 U.S.C. 552), CBI is exempt from public disclosure. If your comments responsive to this final rule contain commercial or financial information that is customarily treated as private, that you actually treat as private, and that is relevant or responsive to this final rule, it is important that you clearly designate the submitted comments as CBI. Please mark each page of your submission containing CBI as “PROPIN.” The FAA will treat such marked submissions as confidential under the FOIA, and they will not be placed in the public docket of this final rule. Submissions containing CBI should be sent to Daniel E. Moore, Aviation Safety Engineer, Regulations & Policy Section, Rotorcraft Standards Branch, FAA, 10101 Hillwood Pkwy., Fort Worth, TX 76177; telephone 817-222-5110; email daniel.e.moore@faa.gov. Any commentary that the FAA receives which is not specifically designated as CBI will be placed in the public docket for this rulemaking.

Discussion

Transport Canada, which is the aviation authority for Canada, has issued Canadian AD No. CF-2019-28, dated July 25, 2019, to correct an unsafe condition for Bell Model 505 helicopters, serial number 65011 through 65211. Transport Canada advises of a report showing that a bearing migrated out of its inner ring. An investigation revealed that, although the inspection witness mark was applied to the part, the bearing had not been staked during manufacturing. Transport Canada further advises that an un-staked bearing, which has migrated out of its bore, may lead to restriction of the swashplate's movement as a result of contact or binding between the control tube clevis and the bearing housing.

This contact or binding may restrict control authority and may also introduce unintended loads into the control system causing a failure of the control tube and/or bearing. This situation, if not corrected, could lead to loss of control of the helicopter. Accordingly, the Transport Canada AD requires a one-time inspection of each bearing.

FAA's Determination

These helicopters have been approved by the aviation authority of Canada and are approved for operation in the United States. Pursuant to the FAA's bilateral agreement with Canada, Transport Canada, its technical representative, has notified the FAA of the unsafe condition described in its AD. The FAA is issuing this AD after evaluating all of the information provided by Transport Canada and determining the unsafe condition exists and is likely to exist or develop on other helicopters of the same type design.

Related Service Information Under 1 CFR Part 51

Bell has issued Alert Service Bulletin 505-19-13, dated July 2, 2019, which specifies procedures for a one-time inspection of the staking of certain bearings.

This service information is reasonably available because the interested parties have access to it through their normal course of business or by the means identified in the ADDRESSES section.

Other Related Service Information

Bell Helicopter has issued BHT-ALL-SPM Chapter 9—Bearings, Sleeves, and Bushings, Revision 7, dated March, 24, 2017, which specifies procedures for servicing swashplate assembly bearings, sleeves, and bushings.

AD Requirements

This AD requires, within 20 hours time-in-service (TIS), using a 10X or higher power magnifying glass, inspecting both sides of each affected bearing for staking in the outer ring part number (P/N) 206-010-453, inner ring P/N 206-010-451, and lever assembly P/N 206-010-447. If either side of a bearing is not staked, this AD requires removing the bearing from service before further flight.

Differences Between This AD and the Transport Canada AD

The Transport Canada AD requires inspecting the bearings for proper staking, whereas this AD requires inspecting both sides of each bearing for staking instead. If a swashplate assembly bearing is not staked, the Transport Canada AD requires replacing the bearing and contacting Bell, whereas this AD requires removing the bearing from service instead.

Regulatory Flexibility Act

The requirements of the Regulatory Flexibility Act (RFA) do not apply when an agency finds good cause pursuant to 5 U.S.C. 553 to adopt a rule without prior notice and comment. Because the FAA has determined that it has good cause to adopt this rule without notice and comment, RFA analysis is not required.

Costs of Compliance

The FAA estimates that this AD affects 81 helicopters of U.S. Registry. Labor rates are estimated at $85 per work-hour. Based on these numbers, the FAA estimates that operators may incur the following costs in order to comply with this AD.

Inspecting the bearings for staking takes about one work-hour for an estimated cost of $85 per helicopter and $6,885 for the U.S. fleet. Replacing a bearing takes about one work-hour and parts cost about $100 for an estimated cost of $185 per replacement.

FAA's Justification and Determination of the Effective Date

Section 553(b)(3)(B) of the Administrative Procedure Act (5 U.S.C.) authorizes agencies to dispense with notice and comment procedures for rules when the agency, for “good cause” finds that those procedures are “impracticable, unnecessary, or contrary to the public interest.” Under this section, an agency, upon finding good cause, may issue a final rule without seeking comment prior to the rulemaking.

An unsafe condition exists that requires the immediate adoption of this AD without providing an opportunity for public comments prior to adoption. The FAA has found that the risk to the flying public justifies waiving notice and comment prior to adoption of this rule because the required corrective action must be completed within 20 hours TIS, a time period of up to one month based on the average flight-hour utilization rate of these helicopters. Therefore, notice and opportunity for prior public comment are impracticable and contrary to public interest pursuant to 5 U.S.C. 553(b)(3)(B). In addition, for the reasons stated above, the FAA finds that good cause exists pursuant to 5 U.S.C. 553(d) for making this amendment effective in less than one month.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this AD will not have federalism implications under Executive Order 13132. This AD will not have a substantial direct effect on the States, on the relationship between the national Government and the States, or on the distribution of power and responsibilities among the various levels of government.

For the reasons discussed, I certify that this AD:

1. Is not a “significant regulatory action” under Executive Order 12866, and

2. Will not affect intrastate aviation in Alaska.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2020-19-05 Bell Helicopter Textron Canada Limited: Amendment 39-21247; Docket No. FAA-2020-0795; Product Identifier 2019-SW-069-AD.

(a) Applicability

This AD applies to Bell Helicopter Textron Canada Limited Model 505 helicopters, certificated in any category, with a serial number (S/N) 65011 through 65211 inclusive, and swashplate assembly part number (P/N) 206-010-450-123 with an S/N listed in Table 1 of Bell Alert Service Bulletin 505-19-13, dated July 2, 2019, installed.

(b) Unsafe Condition

This AD defines the unsafe condition as an unstaked swashplate assembly bearing which may migrate out of its bore. This condition could result in restricted control authority, unintended loads on the control system, failure of the control tube or bearing, and subsequent loss of control of the helicopter.

(c) Effective Date

This AD becomes effective October 8, 2020.

(d) Compliance

You are responsible for performing each action required by this AD within the specified compliance time unless it has already been accomplished prior to that time.

(e) Required Actions

Within 20 hours time-in-service, inspect both sides of each swashplate assembly bearing (bearing) for staking by following the Accomplishment Instructions, paragraph 4., of Bell Alert Service Bulletin 505-19-13, dated July 2, 2019, except you may use a 10X or higher power magnifying glass. If either side of a bearing is not staked, before further flight, remove the bearing from service.

(f) Special Flight Permits

A special flight permit may be permitted for a one-time ferry flight to an authorized repair facility.

(g) Alternative Methods of Compliance (AMOCs)

(1) The Manager, Rotorcraft Standards Branch, FAA, may approve AMOCs for this AD. Send your proposal to: Daniel E. Moore, Aviation Safety Engineer, Regulations & Policy Section, Rotorcraft Standards Branch, FAA, 10101 Hillwood Pkwy., Fort Worth, TX 76177; telephone 817-222-5110; email 9-ASW-FTW-AMOC-Requests@faa.gov.

(2) For operations conducted under a 14 CFR part 119 operating certificate or under 14 CFR part 91, subpart K, the FAA suggests that you notify your principal inspector, or lacking a principal inspector, the manager of the local flight standards district office or certificate holding district office, before operating any aircraft complying with this AD through an AMOC.

(h) Additional Information

(1) Bell Helicopter BHT-ALL-SPM Chapter 9—Bearings, Sleeves, and Bushings Revision 7 dated March 24, 2017 dated, which is not incorporated by reference, contains additional information about the subject of this AD. For service information identified in this AD, contact Bell Helicopter Textron Canada Limited, 12,800 Rue de l'Avenir, Mirabel, Quebec J7J1R4; telephone 450-437-2862 or 800-363-8023; fax 450-433-0272; or at https://www.bellcustomer.com. You may view a copy of the service information at the FAA, Office of the Regional Counsel, Southwest Region, 10101 Hillwood Pkwy., Room 6N-321, Fort Worth, TX 76177.

(2) The subject of this AD is addressed in Transport Canada AD No. CF-2019-28, dated July 25, 2019. You may view the Transport Canada AD on the internet at https://www.regulations.gov by searching for and locating it in Docket No. FAA-2020-0795.

(i) Subject

Joint Aircraft Service Component (JASC) Code: 6230, Main Rotor Mast/Swashplate.

(j) Material Incorporated by Reference

(1) The Director of the Federal Register approved the incorporation by reference of the service information listed in this paragraph under 5 U.S.C. 552(a) and 1 CFR part 51.

(2) You must use this service information as applicable to do the actions required by this AD, unless the AD specifies otherwise.

(i) Bell Alert Service Bulletin 505-19-13, dated July 2, 2019.

(ii) [Reserved]

(3) For service information identified in this AD, contact Bell Helicopter Textron Canada Limited, 12,800 Rue de l'Avenir, Mirabel, Quebec J7J1R4; telephone 450-437-2862 or 800-363-8023; fax 450-433-0272; or at https://www.bellcustomer.com.

(4) You may view this service information at FAA, Office of the Regional Counsel, Southwest Region, 10101 Hillwood Pkwy., Room 6N-321, Fort Worth, TX 76177. For information on the availability of this material at the FAA, call 817-222-5110.

(5) You may view this service information that is incorporated by reference at the National Archives and Records Administration (NARA). For information on the availability of this material at NARA, email fedreg.legal@nara.gov, or go to: https://www.archives.gov/federal-register/cfr/ibr-locations.html.

Issued on September 3, 2020.
Lance T. Gant,
Director, Compliance & Airworthiness Division, Aircraft Certification Service.

[FR Doc. 2020-20911 Filed 9-22-20; 8:45 am]

BILLING CODE 4910-13-P